ENVIRONMENTAL PROTECTION AGENCY

40 CFR Parts 52 and 70

[EPA-R07-OAR-2008-0895; FRL-9096-6]

Approval and Promulgation of Implementation Plans and Operating Permits Program; State of Iowa

AGENCY: Environmental Protection Agency (EPA).

ACTION: Direct final rule.

SUMMARY: EPA is taking direct final action to approve revisions to the Iowa State Implementation Plan (SIP) and Iowa Operating Permits Program submitted by the State on November 18, 2008. The purpose of these revisions is to update existing air quality rules; make corrections, clarifications and improvements; add information with regard to control of fugitive dust; clarify the opacity limit for incinerators; update Prevention of Significant Deterioration (PSD) permitting requirements; and add rules for temporary operation of small generators during periods of disaster. EPA is approving the SIP provisions pursuant to section 110 of the CAA. EPA is approving the state operating permits revisions pursuant to section 502 of the CAA and implementing regulations.

DATES: This direct final rule will be effective March 1, 2010, without further notice, unless EPA receives adverse comment by January 28, 2010. If EPA receives adverse comment, we will publish a timely withdrawal of the direct final rule in the Federal Register informing the public that the rule will not take effect.

ADDRESSES: Submit your comments, identified by Docket ID No. EPA-R07-OAR-2008-0895, by one of the following methods:

1. http://www.regulations.gov. Follow the on-line instructions for submitting comments.

2. E-mail: casburn.tracey@epa.gov.

3. Mail or Hand Delivery: Tracey Casburn, Environmental Protection Agency, Air Planning and Development Branch, 901 North 5th Street, Kansas City, Kansas 66101.

Instructions: Direct your comments to Docket ID No. EPA-R07-OAR-2008-0895. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, i.e., CBI or other information whose disclosure is restricted by statute. Certain other material, such as copyrighted material, will be publicly available only in hard copy form. Publicly available docket materials are available either electronically in http://www.regulations.gov or in hard copy at the Environmental Protection Agency, Air Planning and Development Branch, 901 North 5th Street, Kansas City, Kansas 66101. The Regional Office's official hours of business are Monday through Friday, 8 a.m. to 4:30 p.m. excluding Federal holidays. The interested persons wanting to examine these documents should make an appointment with the office at least 24 hours in advance.

FOR FURTHER INFORMATION CONTACT: Tracey Casburn at (913) 551-7016, or by e-mail at casburn.tracey@epa.gov.

SUPPLEMENTARY INFORMATION: Throughout this document “we,” “us,” or “our” refer to the EPA.

Table of Contents

I. What is being addressed in this document?

II. What Part 52 revisions is EPA approving?

A. Definition Changes

B. Construction Permit Exemption for Temporary Operation of Small Generators in Disaster Situations

C. Addition of PSD Amendments

D. Addition of PSD Administrative Rule

E. Special Requirements for Major Stationary Sources Located in Areas Designated Attainment or Unclassified

F. Changes to Permit Exemption Requirements for New or Existing Sources

G. Amendment of Emissions Standards and Measurement

H. Modification of Notification Requirements for Portable Plant Relocations

I. Addition of Vehicle Speed Control as a Preventative Measure for Fugitive Dust

J. Clarification of Incinerator Provision

K. Cross Reference Connection to the Construction Permits Rule

III. What Part 70 revisions is EPA approving?

A. Update to Incorporate the Date for EPA Reference Method

B. Clarification of Title V Permit Application Provisions

C. Issuance of Multiple Title V Permits

D. Correction of Errors

IV. What revisions is EPA not taking action on?

V. What action is EPA taking?

VI. Statutory and Executive Order Reviews

I. What is being addressed in this document?

The State has revised Chapters 20, 21, 22, 23, 25 and 33 of the State air pollution control rules promulgated by the State's Environmental Protection Commission. EPA is approving the revisions described below for the reasons discussed in this document.

II. What Part 52 revisions is EPA approving?

A. Definition Changes

In Iowa (IA) Rule 567-20.2 and 567-33.3(1) the mailing addresses of the “American Society of Mechanical Engineers,” or ASME, and the “American Society for Testing and Materials,” or ASTM, are being removed. The “EPA Reference Method” definition is being revised to update the amended dates of several appendices as described under 40 CFR part 60 (Appendices A, B, C and F), 40 CFR part 61 (Appendix B), 40 CFR part 63 (Appendix A) and 40 CFR part 75 (Appendix A, B, F and K). The definition of “volatile organic compound” was updated to reflect recent Federal amendments to exclude the compound HF-7300 from the list of compounds that contribute to tropospheric ozone formation. EPA is approving these revisions as they are administrative in nature and do not alter the stringency of the SIP.

B. Construction Permit Exemption for Temporary Operation of Small Generators in Disaster Situations

The State added a new rule, IA Rule 567-21.6, to allow utilities to temporarily operate (generally for no more than 10 days) small generators for electricity generation during periods of natural and man-made disasters. The rule defines the term “disaster” by reference to the term as specified in the Iowa State Code section 29C.2(1). An owner or operator may install and operate a generator under this rule with or without a gubernatorial or Federal disaster proclamation. The State submitted technical support documentation demonstrating that the exemption would not result in interference with attainment and maintenance of the National Ambient Air Quality Standards (NAAQS). EPA reviewed that documentation and found it to be a reasonable representation of the expected emissions. EPA agrees with the State's demonstration that the emergency generator exemption will not limit the State's ability to maintain compliance with the NAAQS. The documentation submitted by the State is included in the docket for this action.

C. Addition of PSD Amendments

The State revised its rules, IA Rules 567-33.3(17) and 567-33.3(18), to address the reopening of the public comment period if substantial new issues are raised during the initial public comment period. These revisions clarified the public participation procedures by allowing for the reopening of the public comment period when necessary. These provisions add clarity for those applying for PSD permits and for those seeking to comment on draft PSD permits. Provisions were also added (paragraphs “c” and “d” of IA Rule 567-33.3(18)) to clarify that a source owner or operator is subject to enforcement action if a source is not constructed according to its PSD application and the PSD permit, and if a source owner or operator does not obtain the required PSD permit prior to construction. These revisions also clarified the time period allowed for commencing and completing construction on PSD projects. EPA is approving these clarifications as they are consistent with the Federal PSD rules in 40 CFR 51.166.

D. Addition of PSD Administrative Rule

The State adopted a new PSD subrule, IA Rule 567-33.3(21), to add provisions for administrative amendments such as typographical errors, word processing errors, or changes in the name, address, or telephone number of any person identified in the permit. This provision adds clarity for those applying for administrative amendments to PSD permits. EPA is approving this revision as it is administrative in nature and does not alter the stringency of the SIP.

E. Special Requirements for Major Stationary Sources Located in Areas Designated Attainment or Unclassified

The State made revisions to a section of IA Rule 567-22.4 that applies to special requirements for major stationary sources located in areas designated attainment or unclassified (PSD). The change was made to cross-reference from this section of the rule to the chapter containing the State's PSD rules. EPA is approving this revision as it is administrative in nature and does not alter the stringency of the SIP.

F. Changes To Permit Exemption Requirements for New or Existing Sources

The State made several changes to IA Rules 567-22.1(2)“r”, 567-22.1(2)“w”(6), 567-22.1(2)“aa,” and 567-22.1(2)“nn”. The State added information to a minor source (non-PSD) construction permit exemption clarifying that an internal combustion engine with a brake horsepower rating of less than 400 measured at the shaft may be subject to the new source performance standard (NSPS) for stationary compression ignition internal combustion engines (as set forth in 40 CFR Part 60). The revision further states that using the exemption does not relieve the owner or operator from any obligation to comply with the NSPS requirements.

The State also corrected an error in the “small unit” exemption provisions. The existing subparagraph (numbered paragraph 8) incorrectly lists the threshold for a “substantial small unit” for “any combination of hazardous air pollutants” as 9.375 tons per year. The amendment corrects the threshold to 3.75 tons per year.

Two corrections were made to construction permit exemptions. The first correction, IA Rule 567-22.1(2)“aa,” clarifies that the exemption for pretreatment application processes that use aqueous-based chemistries (wash booths) applies to all pretreatment wash processes using aqueous-based chemistries and not just processes preparing a substrate for an organic coating. The second correction, IA Rule 567-22.1(2)“nn,” applies to emissions from agricultural and construction internal combustion engines that are operated only for repair or maintenance purposes at non-major equipment repair shops or equipment dealerships. The amendment adds “emissions from over-the-road truck internal combustion engines” to the description of emissions covered under this exemption. This exemption was inadvertently excluded from the list of mobile source equipment types included in the original rulemaking. EPA is approving these revisions as they are administrative in nature and do not alter the stringency of the SIP.

G. Amendment of Emissions Standards and Measurement

In IA Rule 567-23.1(6)“a”(2) and 567-25.1(9) revisions were made to amend the methods and procedures for stack sampling and associated analytical methods to include the most recent date of Federally-approved revisions and corrected the symbol for “good engineering practice stack height.” EPA is approving these clarifications as they are consistent with the Federal rules.

H. Modification of Notification Requirements for Portable Plant Relocations

An amendment to IA Rule 567-22.3(3)“f” reduces the notification requirement for portable plant relocations (facilities which have been previously permitted and are minor sources) from 30 days prior to relocation to 14 days prior to relocation. This change will allow more flexibility for owners and operators at portable plants, while still allowing sufficient time for the Iowa Department of Natural Resources to conduct air quality inspections at these portable plants. This revision does not apply to facility relocations located in non-attainment areas or areas that are maintenance for the NAAQS. The notification requirement remains at 30 days for those relocations. EPA is approving this revision as it is administrative in nature and does not alter the stringency of the SIP.

I. Addition of Vehicle Speed Control as a Preventative Measure for Fugitive Dust

A new provision was added to IA Rule 23.3(2)“c”(1) for the control of fugitive dust to include “vehicle speed control” as a reasonable precaution to control the discharge of visible emissions of fugitive dust beyond the lot line of property on which emissions are generated. Fugitive dust generated from a road or other surface used for vehicle movement is greatly influenced by the speed of a vehicle on the surface and reducing the allowable speed is a reasonable method to help control the discharge of visible fugitive dust emissions. EPA is approving this revision as it does not alter the stringency of the SIP.

J. Clarification of Incinerator Provision

In IA Rule 567-23.4(12), the State clarified the visible emissions (opacity) limit for incinerators. The limit is 40 percent and the rules are intended to allow incinerators to exhibit no greater than 60 percent opacity in the case of an operation breakdown or the cleaning of control equipment for specified periods of time. The amendment clarifies that this 60 percent opacity limit applies in such instances. The amendment also includes minor editorial changes. EPA approves this revision solely because it corrects an error in the prior rule which allowed sources to emit above 60 percent opacity during breakdown or cleaning of control equipment.

K. Cross Reference Connection to the Construction Permits Rule

IA Rule 567-22.207(1) was amended to correct the cross reference to subrule 567-22.105(1) which includes the “duty to apply” provisions for the Title V Operating Permits Program. EPA is approving this revision as it is administrative in nature and does not alter the stringency of the SIP.

III. What Part 70 revisions is EPA approving?

A. Update To Incorporate the Date for EPA Reference Method

In IA Rule 567-22.100 the state amended the definition of “EPA reference method” to reflect Federal amendments to EPA reference methods. EPA is approving this revision as it is consistent with Federal requirements.

B. Clarification of Title V Permit Application Provisions

Several revisions were made to IA Rule 547-22.105(1)“a” except (9), 567-22.110, and 567-22.116(2) in the Iowa Operating Permits Program. The “duty to apply” was revised to provide a better description of application forms for the Title V facility owners or operators who must submit timely applications, revisions and notifications. The term “off-permit revision” was added in another section of the Operating Permits Program that is sometimes used to refer to a change at a Title V source that does not require a revision to the current Title V permit. One sentence was removed from subrule 22.116(2). This sentence required testing to be completed prior to the submission of an application for a Title V permit. This sentence is no longer needed because the State has established procedures, such as compliance plan requirements, to address compliance testing. EPA is approving these revisions as they are administrative in nature and do not alter the stringency of the State's Operating Permits Program.

C. Issuance of Multiple Title V Permits

The State added a subrule, IA Rule 567-22.105(5), that allows a source to obtain more than one Title V permit under certain circumstances. The appropriateness of this approach will be reviewed by the State prior to issuance. EPA is approving this revision as it is consistent with Federal requirements and does not alter the stringency of the Operating Permits Program.

D. Correction of Errors

The State added a subrule, IA Rule 567-22.106(8), that requires owners or operators to submit revised forms as soon as possible after an error is discovered, or upon notification of an error by the State, in a Title V emissions inventory or Title V fee payment. EPA is approving this revision as it is consistent with Federal requirements and does not alter the stringency of the Operating Permits Program.

IV. What revisions is EPA not taking action on?

The State's submittal included revisions to certain parts of the Acid Rain Program to include the most recent revisions of Federally-approved rulemakings. EPA is taking no action on the provisions related to the Acid Rain Program because the State's Acid Rain rules are not part of the State's SIP or Title V program.

The State added a provision to portions of IA Rule 567-21.1(3), 567-21.1(4), 567-22.1(3), 567-22.105(1)“a”(9), and 567-22.106(3)“b” to allow for the submittal of emissions inventory information and new or modified construction permit applications (unless a conditional permit is required) in an electronic format. EPA is not acting on any provision allowing electronic submittal of information. In order for EPA to approve provisions that allow for the electronic submittal of information, the State must seek and obtain approval from EPA of its electronic document receiving system consistent with the Cross-Media Electronic Reporting Rule found at 40 CFR Part 3.

V. What action is EPA taking?

EPA is approving the request to amend the Iowa SIP and the Iowa Operating Permits Program. The revisions pertain to routine updates, corrections, clarifications and improvements as listed previously in this document. These modifications will not adversely affect air quality and will not relax the SIP. The State has provided adequate justification where certain revisions could result in emissions increases. EPA is not taking action on the revisions to the Acid Rain Program or the revisions pertaining to “electronic submittal.”

The State submittal has met the public notice requirements for SIP submissions in accordance with 40 CFR 51.102. The submittal also satisfied the completeness criteria of 40 CFR part 51, appendix V. The revisions meet the substantive SIP requirements of the CAA, including section 110 and implementing regulations. These revisions are also consistent with applicable EPA requirements in Title V of the CAA and 40 CFR part 70.

EPA is processing this action as a direct final action because the revisions make routine changes to the existing rules which are noncontroversial. Therefore, we do not anticipate any adverse comments. Please note that if EPA receives adverse comment on part of this rule and if that part can be severed from the remainder of the rule, EPA may adopt as final those parts of the rule that are not the subject of an adverse comment.

VI. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a State rule implementing a Federal standard, and does not alter the relationship or the distribution of power and responsibilities established in the CAA. This rule also is not subject to Executive Order 13045, “Protection of Children from Environmental Health Risks and Safety Risks” (62 FR 19885, April 23, 1997) because it approves a State rule implementing a Federal standard.

In reviewing State submissions, EPA's role is to approve State choices, provided that they meet the criteria of the CAA. In this context, in the absence of a prior existing requirement for the State to use voluntary consensus standards (VCS), EPA has no authority to disapprove a State submission for failure to use VCS. It would thus be inconsistent with applicable law for EPA when it reviews a State submission, to use VCS in place of a State submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by March 1, 2010. Filing a petition for reconsideration by the Administrator of this final rule does not affect the finality of this rule for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the final rulemaking. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Administrative practice and procedure, Air pollution control, Intergovernmental relations, Operating permits, Reporting and recordkeeping requirements.

Dated: December 15, 2009.
William Rice,
Acting Regional Administrator, Region 7.

Chapter I, Title 40 of the Code of Federal Regulations is amended as follows:

PART 52—[AMENDED]

1. The authority citation for part 52 continues to read as follows:

Authority: 42 U.S.C. 7401 et seq.

Subpart Q—Iowa

2. In § 52.820(c) the table is amended by:

a. Revising the entries for 567-20.2, 567-22.1, 567-22.3, 567-22.4, 567-22.207, 567-23.1, 567-23.3, 567-23.4, 567-25.1, and 567-33.3; and

b. Adding in numerical order an entry for 567-21.6.

The revisions and addition read as follows:

§ 52.820 Identification of plan.

* * * * *

(c) * * *

EPA-Approved Iowa Regulations
Iowa citation | Title | State effective date | EPA approval date | Explanation
Iowa Department of Natural Resources Environmental Protection Commission [567]
Chapter 20—Scope of Title—Definitions—Forms—Rules of Practice
| * * * * * * *
567-20.2 | Definitions | 10/15/08 | 12/29/09 [insert FR page number where the document begins] | The definitions for anaerobic lagoon, odor, odorous substance, odorous substance and greenhouse gas are not SIP approved.
| * * * * * * *
Chapter 21—Compliance
| * * * * * * *
567-21.6 | Temporary Electricity Generation for Disaster Situations | 10/15/08 | 12/29/09 [insert FR page number where the document begins] |
Chapter 22—Controlling Pollution
567-22.1 | Permits required for New or Existing Stationary Sources | 6/11/08 | 12/29/09 [insert FR page number where the document begins] | Electronic submittal referred to in 22.1(3) is not SIP approved.
| * * * * * * *
567-22.3 | Issuing Permits | 10/15/08 | 12/29/09 [insert FR page number where the document begins] |
567-22.4 | Special Requirements for Major Stationary Sources Located in Areas Designated Attainment or Unclassified (PSD) | 6/11/08 | 12/29/09 [insert FR page number where the document begins] |
| * * * * * * *
567-22.207 | Relation to Construction Permits | 10/15/08 | 12/29/09 [insert FR page number where the document begins] |
| * * * * * * *
Chapter 23—Emission Standards for Contaminants
567-23.1 | Emission Standards | 6/11/08 | 12/29/09 [insert FR page number where the document begins] | Subrules 23.1(2)-(5) are not SIP approved.
| * * * * * * *
567-23.3 | Specific Contaminants | 6/11/08 | 12/29/09 [insert FR page number where the document begins] | Subrule 23.3(3) “d” is not SIP approved.
567-23.4 | Specific Processes | 6/11/08 | 12/29/09 [insert FR page number where the document begins] | Subrule 23.4(10) is not SIP approved.
| * * * * * * *
Chapter 25—Measurement of Emissions
567-25.1 | Testing and Sampling of New and Existing Equipment | 10/15/08 | 12/29/09 [insert FR page number where the document begins] |
| * * * * * * *
Chapter 33—Special Regulations and Construction Permit Requirements for Major Stationary Sources—Prevention of Significant Deterioration (PSD) of Air Quality
| * * * * * * *
567-33.3 | Special construction permit requirements for major stationary sources in areas designated attainment or unclassified (PSD) | 10/15/08 | 12/29/09 [insert FR page number where the document begins] |
| * * * * * * *

* * * * *

PART 70—[AMENDED]

3. The authority citation for part 70 continues to read as follows:

Authority: 42 U.S.C. 7401 et seq.

4. Appendix A to part 70 is amended by adding paragraph (k) under Iowa to read as follows:

Appendix A to Part 70—Approval Status of State and Local Operating Permits Program

* * * * *

Iowa

* * * * *

(k) The Iowa Department of Natural Resources submitted for program approval rules 567-22.100, 567-22.105(1)“a”, except subparagraph (9); new subrules 567-22.105(5) and 567-22.106(8); 567-22.110, and 567-22.116 on November 18, 2008. The state effective dates were October 15, 2008. These revisions to the Iowa program are approved effective March 1, 2010.

* * * * *

[FR Doc. E9-30775 Filed 12-28-09; 8:45 am]

BILLING CODE 6560-50-P